DEPARTMENT OF THE INTERIOR

Bureau of Land Management

[LLIDT03000-L14300000.EU0000; IDI-35159]

Notice of Realty Action; Proposed Sale of Public Land, Idaho

AGENCY: Bureau of Land Management, Interior.

ACTION: Notice of realty action.

SUMMARY: A parcel of public land totaling 1.62 acres in Blaine County, Idaho, has been found suitable for direct sale under the provisions of the Federal Land Policy Management Act of 1976 (FLPMA), at no less than the appraised fair market value.

DATES: The land will not be offered for sale until at least 60 days after the date of this notice. Until April 17, 2009 interested parties may submit comments.

ADDRESSES: Address all comments concerning this Notice to Tara Hagen, Realty Specialist, Bureau of Land Management (BLM), Shoshone Field Office, 400 West F Street, Shoshone, Idaho 83352.

FOR FURTHER INFORMATION CONTACT: Tara Hagen, Realty Specialist, at the above address or phone at (208) 732-7205.

SUPPLEMENTARY INFORMATION: The following described public land in Blaine County, Idaho, has been found suitable for disposal by direct sale to Helios Development, LLC, under the authority of Sections 203 and 209 of the FLPMA:

Boise Meridian

T. 4 N., R. 17 E.,

Section 13: Lot 5.

The area described contains 1.62 acres in Blaine County.

The 1981 BLM Sun Valley Framework Management Plan (MFP) had identified this parcel for potential disposal; thus allowing it to qualify for disposal under the Federal Land Transaction Facilitation Act (FLTFA). The FLTFA directs the revenues generated from the sale or disposal of lands identified for disposal in land use plans as of July 25, 2000, to an account that can be used by the Bureau of Land Management (BLM), the U.S. Forest Service, the National Park Service, and the U.S. Fish and Wildlife Service, to purchase lands located within federally designated areas or with higher resources from willing sellers.

It has been determined that the subject parcel contains no known mineral values; therefore, mineral interests will be conveyed simultaneously. The patent, when issued, will contain a right-of-way thereon for all ditches and canals constructed by the authority of the United States under the Act of August 30, 1890, 43 U.S.C. 945.

On March 3, 2009 the above-described land will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or March 3, 2011 unless extended by the BLM State Director in accordance with 43 CFR 2711.1-2(d) prior to the termination date.

Public Comments: For a period until April 17, 2009, interested parties and the general public may submit comments to Tara Hagen, Realty Specialist, at the BLM Shoshone Field Office at the address listed above. In the absence of timely objections, this proposal shall become the final determination of the Department of the Interior. Comments transmitted via e-mail will not be accepted. Comments, including names and street addresses of respondents, will be available for public review at the BLM Shoshone Field Office during regular business hours, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

(Authority: 43 CFR 2711.1-2)

Lori A. Armstrong,
Shoshone Field Manager.

[FR Doc. E9-4489 Filed 3-2-09; 8:45 am]

BILLING CODE 4310-$$-P